ENVIRONMENTAL PROTECTION AGENCY

[ER-FRL-6679-9]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060088, ERP No. D-FTA-J40173-CO, Denver Union Station (DUS) Project, Transportation Improvement, Multimodal Transportation Center for the Metro Denver Region, Funding and NPDES Permit, City and County Denver, CO.

Summary: EPA expressed environmental concerns about indirect effects of development around future train stations in outlying areas surrounding Denver, and suggested that specific mitigation measures to reduce dust and diesel emissions be written as requirements in construction contracts. Rating EC1.

EIS No. 20060277, ERP No. D-NNS-G06013-NM, Los Alamos National Laboratory Continued Operations, Los Alamos County, NM

Summary: EPA does not object to the preferred alternative. Rating LO.

EIS No. 20060283, ERP No. D-FHW-J40174-UT, Riverdale Road Project (UT-26), Improvement Mobility and Safety between 1900 West in Roy, UT and U.S. Highway 89 (Washington Boulevard) in Odgen, UT, Cities of Roy, Riverdale, South Ogden and Ogden, Weber County, UT

Summary: EPA does not object to the preferred alternative. Rating LO.

EIS No. 20060297, ERP No. D-FHW-E40809-NC, NC-24 Transportation Improvements, from west of I-95 to I-40, Funding, U.S. Army COE 404 Permit, Cumberland, Sampson, and Duplin Counties, NC

Summary: EPA expressed environmental concerns about residential relocations, potential indirect and cumulative impacts, and impacts to wetlands. Rating EC2.

EIS No. 20060313, ERP No. D-BIA-J39035-MT, Kerr Hydroelectric Project, Proposed Drought Management Plan, Implementation, Flathead Lake, MT

Summary: EPA expressed concerns about potential adverse impacts to aquatic biota and water quality, and requested additional information to fully assess and mitigate impacts of the management actions. Rating EC2.

EIS No. 20060324, ERP No. D-AFS-J65470-MT, Cabin Gulch Vegetation Treatment Project, Restore Fire-Adapted Ecosystems., Reduce Hazardous Fuels, and Water Quality Tributaries to Deep Creek, Helena National Forest, Townsend Ranger District, Broadwater County, MT

Summary: EPA expressed environmental concerns about improving water quality and reducing sediment delivery. EPA supports decommissioning and recontouring of Forest Road 4181, which has adversely affected water quality and fisheries habitat in West Fork Cabin Gulch. EPA requested additional information on project monitoring and suggested additional analysis to assess and mitigate potential impacts to aquatic resources from herbicide application. Rating EC2.

EIS No. 20060340, ERP No. D-AFS-J65471-00, Custer National Forest Weed Management, To Implement Specific Invasive Weed Treatments, Carbon, Stillwater, Sweetgrass, Park, Powder River, Rosebud and Carter Counties, MT and Harding County, SD

Summary: EPA supports the proposed action to prevent the establishment and spread of weeds. EPA did not identify any potential environmental impacts requiring substantive changes to the proposal, but recommended that additional information on the causes of weed spread, additional cultural weed control methods (seeding), and a more definitive commitment to aquatic monitoring be considered. Rating LO.

Final EISs

EIS No. 20040327, ERP No. F-AFS-J65404-UT, Trout Slope West Timber Project, Harvesting Timber, Ashley National Forest, Vernal Ranger District, Uintah County, UT

Summary: EPA continues to express environmental concerns about impacts to aquatic resources from the road system and soil compaction from project activities.

EIS No. 20060322, ERP No. F-BLM-J02043-CO, Northern San Juan Basin Coal Bed Methane Project, Proposal to Drill 300 Wells to Produce National Gas from Coal Beds on Federal, State and Private Owned Lands, Special-Use-Permit, Application for Permit to Drill and U.S. Army COE Section 404 Permit, LaPlata and Archuleta Counties, CO

Summary: The Final EIS includes a new alternative which implements a development buffer zone and addresses EPA's request for information concerning monitoring, mitigation and additional safety measures. However, EPA continues to have concerns about potential impacts to water quality from the pipeline and related roads across high landslide areas and the high potential for hazards spills. EPA recommends that the BLM further develop a structured decision framework and implementation strategy for the step-wise approach to drilling in the highly sensitive Fruitland Formation.

EIS No. 20060346, ERP No. F-SFW-K64026-CA, San Diego Bay National Wildlife Refuge Comprehensive Conservation Plan, Implementation, Sweetwater Marsh and South San Diego Bay Units, San Diego County, CA

Summary: EPA does not object to the proposed action.

EIS No. 20060350, ERP No. F-BLM-L65496-AK, Ring of Fire Resource Management Plan, Implementation, Alaska Peninsula , Kodiak Island and Aleutian Islands, AK

Summary: EPA does not object to the proposed action.

EIS No. 20060363, ERP No. F-SFW-F64006-IL, Crab Orchard National Wildlife Refuge Comprehensive Conservation Plan (CCP), Implementation, Williamson, Jackson and Unicon Counties, IL

Summary: EPA does not object to the proposed action.

Dated: October 3, 2006.
Robert W. Hargrove,
Director, NEPA Compliance Division, Office of Federal Activities.

[FR Doc. E6-16567 Filed 10-5-06; 8:45 am]

BILLING CODE 6560-50-P